DEPARTMENT OF COMMERCE

National Oceanic and Atmospheric Administration

[Docket No. 000202023-1001-02; I.D. No.110200C]

RIN 0648-ZA78

Announcement of Funding Opportunity to Submit Proposals for the Coastal Ecosystem Research Project in the Northern Gulf of Mexico

AGENCY: Center for Sponsored Coastal Ocean Research/Coastal Ocean Program (CSCOR/COP), National Ocean Service (NOS), National Oceanic and Atmospheric Administration (NOAA), Department of Commerce (DOC).

ACTION: Announcement of funding opportunity for financial assistance for project grants and cooperative agreements.

SUMMARY: The purpose of this document is to advise the public that CSCOR/COP is soliciting 1-year and 2-year proposals for modeling, monitoring and retrospective studies of coastal ecosystem research in the Northern Gulf of Mexico (N-GOMEX). Funding is contingent upon the availability of Federal appropriations. It is anticipated that projects funded under this announcement will have an August 1, 2001, start date.

DATES: The deadline for receipt of proposals at the COP office is 3 p.m, EST, March 14, 2001. Note that late-arriving applications provided to a delivery service, on or before, March 13, 2001, with delivery guaranteed before 3 p.m.,EST, on March 14, 2001, will be accepted for review if the applicant can document that the application was provided to the delivery service with delivery to the address listed below (see ADDRESSES) guaranteed prior to the specified closing date and time; and in any event, the proposals are received in the COP office by 3 p.m. EST, no later than two business days following the closing date.

ADDRESSES: Submit the original and 10 copies of your proposal to Coastal Ocean Program Office (N-GOMEX 2001), SSMC#3, 9th Floor, Station 9700, 1315 East-West Highway, Silver Spring, MD 20910. NOAA and COP Standard Form Applications with instructions are accessible on the COP Internet site (http://www.cop.noaa.gov) under the COP Grants Support Section, Part D, Application Forms for Initial Proposal Submission. Forms may be viewed, and in most cases, filled in by computer. All forms must be printed, completed, and mailed to CSCOR/COP with original signatures. Blue ink for original signatures is recommended but not required. If you are unable to access this information, you may call CSCOR/COP at 301-713-3338 to leave a mailing request.

FOR FURTHER INFORMATION CONTACT: Technical Information: Kenric Osgood, N-GOMEX 2001 Program Manager, COP Office, 301-713-3338/ext 135, Internet: Kenric.Osgood@noaa.gov

Business Management Information: Leslie McDonald, COP Grants Administrator, 301-713-3338/ext 137, Internet: Leslie.McDonald@noaa.gov

See SUPPLEMENTARY INFORMATION under the heading, ELECTRONIC ACCESS, for a listing of web sites pertaining to period hypoxia in the northern Gulf of Mexico.

SUPPLEMENTARY INFORMATION:

Electronic Access

The following web sites furnish results of studies concerning the periodic hypoxia associated with the northern Gulf of Mexico: http://www.aoml.noaa.gov/ocd/necop/, for results from the Nutrient Enhanced Coastal Ocean Productivity (NECOP) study and, http://www.nos.noaa.gov/Products/pubs_hypox.html for Gulf of Mexico hypoxia reports produced by the Committee on Environment and Natural Resources (CENR). Hard copies of reports from these studies can be obtained from the COP office.

A workshop report, U.S. GLOBEC report No. 19, is available from the following address or homepage: U.S. GLOBEC Coordinating Office, UMCES, Chesapeake Biological Laboratory, P.O. Box 38, Solomons, MD 20688; Phone: 410-326-7370; Fax: 410-326-7341; Internet: fogarty@usglobec.org and http://www.usglobec.org.

A listing of ongoing projects in the northern Gulf of Mexico funded by the COP are provided within the COP Internet Site at http://www.cop.noaa.gov/projects/GMX.htm

Background

Program Description

For complete Program Description and Other Requirements for the COP, see the General Grant Administration Terms and Conditions of the Coastal Ocean Program published in the Federal Register (65 FR 62706, October 19, 2000) and at the COP home page.

Coastal regions dominated by large rivers are disproportionately important to the biological production of the world's oceans, primarily because these rivers carry large amounts of “new” nitrogen. An important river-dominated coastal ecosystem in the U.S., which supports high primary and secondary production, is the one dominated by the Mississippi River in the northern Gulf of Mexico. Approximately 20 percent of the U.S. commercial fishery landings by dollar value are from the northern Gulf. Major recreational fisheries also exist in this region.

There is a strong relationship between riverine inputs (especially nutrients) and primary production, followed in turn by zooplankton production and fish production in a classic nutrient-phytoplankton-zooplankton-fish (NPZF) food web. Anthropogenic nitrogen loadings from the Mississippi River to the Gulf of Mexico have increased dramatically during the past several decades, which has led to changes in the ecosystem of the northern Gulf, including (1) an initial increase in overall biological production; (2) the annual development of an extensive zone of bottom water hypoxia during the summer stratified period; and (3) an apparent shift from a balanced pelagic/demersal fish community to one significantly more dominated by pelagic fisheries.

Several past and present programs have studied the seasonal hypoxia associated with the northern Gulf of Mexico. Notably, from 1990 to 1997, the COP supported a study on Nutrient Enhanced Coastal Ocean Productivity (NECOP); and the Committee on Environment and Natural Resources (CENR) recently completed an integrated assessment of Gulf of Mexico hypoxia. Results and reports of these studies can be found on the web sites or obtained from CSCOR/COP as listed under “Electronic Access” in the SUPPLEMENTARY INFORMATIONsection of this document.

A workshop was held in January 1999 to discuss relationships between the Mississippi River, the production of marine populations, and ecosystem parameters in the Gulf of Mexico; and to discuss how these relationships might be affected by changes in weather and climate. A report of the workshop, U.S. GLOBEC report No. 19, is available from the address or homepage provided under “Electronic Access” in the SUPPLEMENTARY INFORMATION section of this document

This solicitation for proposals will augment the initial phase of a program, started in fiscal year 2000, to examine the inter-relationships driving the Mississippi River-dominated Gulf of Mexico ecosystem. Abstracts of ongoing studies funded by CSCOR/COP in the northern Gulf of Mexico are available on the COP internet site that is provided in this document under “Electronuc Access” in the SUPPLEMENTARY INFORMATION section of this document. The planned suite of studies will enable improved predictions about future effects of nutrient loading, eutrophication, hypoxia, and climate change on the Gulf of Mexico ecosystem.

In order to fully develop a predictive capability, a more intensive 5-7 year program is being planned when additional funding becomes available. This complete program will include monitoring, retrospective studies, modeling and process field studies to identify relationships among ecosystem constituents.

The process studies will be nested within monitoring efforts which identify and measure important ecosystem components, and retrospective and modeling efforts which will place the field measurements into broader temporal and theoretical context.

The overall goal of the entire program is to understand and ultimately predict how changes in the physical, chemical and biological environment, including changes in climate, nutrient loading and hypoxia, will affect populations of marine animal species, especially economically and ecologically important species, in the northern Gulf of Mexico. The projects conducted as a result of this current solicitation for proposals will help guide the evolution of the future program.

Structure of the Research Program

CSCOR/COP intends to expand the initial research program, which was initiated in fiscal year 2000, with additional projects. Possible types of new projects include, in priority order, modeling, monitoring and retrospective studies. Subsequent announcements may solicit further proposals in these areas and for process field studies in the region, depending on the outcome of the proposed research solicited here and the levels of future appropriated funding.

Modeling studies are needed to provide a framework for studies in the northern Gulf of Mexico. Modeling activities will be used to guide further program development and identify important processes for the extensive fieldwork anticipated to follow this preliminary phase. Modeling studies may include: models that simulate impacts of varying nutrient flux on productivity and trophic response in the northern Gulf of Mexico ecosystem, including impacts to and responses of commercially and recreationally important fisheries; NPZF models; physical-biological coupled models of processes in the Gulf ecosystem influenced by the Mississippi River discharge, including transport and population dynamics of key zooplankton and fishery populations; models of oceanographic and climate influences on nutrients and their impact on Gulf productivity; models of biogeochemical cycling of nutrients within the Gulf and its relationship to the dynamics of organic carbon flux in the Gulf; and models of water column stability and hypoxic zone dynamics.

It is desirable for the modeling studies to be integrative or designed so that they can be fitted with other models to form an integrative whole. The goal is to build a predictive capability for the northern Gulf of Mexico ecosystem.

Proposed monitoring studies should provide calibration and validation data for modeling activities, but not duplicate ongoing activities. Monitoring studies could include shipboard surveys, multi-disciplinary mooring observations, drifters, and analysis of regional satellite data. Possible monitoring activities responsive to this announcement include physical or chemical observations or biological observations of distribution and abundance of key species, and their relation to hypoxia.

Proposed retrospective analyses should provide quantitative and detailed information on issues relevant to the objectives listed in the recent CENR reports. Examples include retrospective analyses of biological data concerning key animal populations; retrospective analyses of the coupling between transport and population dynamics of key species; and retrospective analyses of coupling between climate, drainage basin, and shelf oceanography. A better definition of the past, current, and potential impacts of hypoxia on both commercially and ecologically important species and ecosystems is needed.

Part I: Schedule and Proposal Submission

This announcement requests full proposals only. The provisions for proposal preparation provided here are mandatory. Proposals received after the published deadline or proposals that deviate from the prescribed format will be returned to the sender without further consideration. Information regarding this announcement, additional background information, and required Federal forms are available on the COP home page.

Full Proposals

Applications submitted in response to this announcement require an original proposal and 10 proposal copies at time of submission. This includes color or high-resolution graphics, unusually-sized materials (not 8.5” x 11“ or 21.6 cm x 28 cm), or otherwise unusual materials submitted as part of the proposal. For color graphics, submit either color originals or color copies. The stated requirements for the number of proposal copies provide for a timely review process. Facsimile transmissions and electronic mail submission of full proposals will not be accepted.

Required Elements

All recipients must follow the instructions in the preparation of the CSCOR/COP application forms referenced later in this document in Part II: Further Supplementary Information, (10) Application forms. Each proposal must also include the following seven elements:

(1) Signed summary title page: The title page should be signed by the Principal Investigator (PI) and the institutional representative. The Summary Title page identifies the project's title starting with the acronym N-GOMEX 2001, a short title (less than 50 characters), and the lead PI's name and affiliation, complete address, phone, FAX, and E-mail information. The requested budget for each fiscal year should be included on the Summary Title page. Multi-institution proposals must include signed Summary Title pages from each institution.

(2) One-page abstract/project summary: The Project Summary (Abstract) Form, which is to be submitted at time of application, must include an introduction of the problem, rationale, scientific objectives and/or hypotheses to be tested, and a brief summary of work to be completed. The prescribed COP format for the Project Summary Form can be found on the COP Internet site under the COP Grants Support section, Part D.

The summary should appear on a separate page, headed with the proposal title, institution(s), investigator(s), total proposed cost, and budget period. It should be written in the third person. The summary is used to help compare proposals quickly and allows the respondents to summariz e these key points in their own words.

(3) Statement of work/project description: The proposed statement of work/project must be completely described, including identification of the problem, scientific objectives, proposed methodology, relevance to the program goals, and its scientific priorities. The project description section (including Relevant Results from Prior Support) should not exceed fifteen pages. Page limits are inclusive of figures and other visual materials, but exclusive of references and milestone chart.

Project management should be clearly identified with a description of the functions of each PI within a team. Environmental data must be submitted to the NOAA National Oceanographic Data Center. It is important to provide a full scientific justification for the research; do not simply reiterate justifications presented in this document. This section should also include:

(a) The objective for the period of proposed work and its expected significance;

(b) The relation to the present state of knowledge in the field and relation to previous work and work in progress by the proposing principal investigator(s);

(c) A discussion of how the proposed project lends value to the program goals, and

(d) Potential coordination with other investigators.

(e) References cited: Reference information is required. Each reference must include the name(s) of all authors in the same sequence in which they appear in the publications, the article title, volume number, page numbers, and year of publications. While there is no page limitation, this section should include bibliographic citations only and should not be used to provide parenthetical information outside of the 15-page project description.

(4) Milestone chart: Provide time lines of major tasks covering the duration of the proposed project, up to 24 months.

(5) Budget and Application Forms: Both NOAA and COP-specific application forms may be obtained at the COP Grants website. Forms may be viewed, and in most cases, filled in by computer. All forms must be printed, completed, and mailed to CSCOR/COP; original signatures in blue ink are encouraged. If applicants are unable to access this information they may call the CSCOR/COP grants administrator listed in the section FOR FURTHER INFORMATION CONTACT.

At time of proposal submission, all applicants must submit the Standard Form, SF-424 (Rev 7-97) Application for Federal Assistance, to indicate the total amount of funding proposed for the whole project period. Applicants must also submit a COP Summary Proposal Budget Form for each fiscal year increment. Multi-institution proposals must include a Summary Proposal Budget Form for each institution. Use of this budget form will provide for a detailed annual budget and for the level of detail required by the COP program staff to evaluate the effort to be invested by investigators and staff on a specific project. The COP budget form is compatible with forms in use by other agencies that participate in joint projects with COP and can be found on the COP home page under COP Grants Support, Part D. All applications must include a budget narrative and a justification to support all proposed budget categories. Ship time needs should be identified in the proposed budget. The SF-424A, Budget Information (Non-Construction) Form, will be requested only from those applicants subsequently recommended for award.

(6) Biographical sketch: Abbreviated curriculum vitae, two pages per investigator, must be included with each proposal. Include a list of up to five publications most closely related to the proposed project and up to five other significant publications. A list of all persons (including their organizational affiliation), in alphabetical order, who have collaborated on a project, book, article, or paper within the last 48 months must be included. If there are no collaborators, this should be so indicated. Students, post-doctoral associates, and graduate and postgraduate advisors of the PI must also be disclosed. This information is needed to help identify potential conflicts of interest or bias in the selection of reviewers.

(7) Proposal format and assembly: The original proposal should be clamped in the upper left-hand corner, but left unbound. The 10 copies can be stapled in the upper left-hand corner or bound on the left edge. The page margin must be one inch (2.5 cm) at the top, bottom, left and right, and the type face standard 12 points size must be clear and easily legible.

Part II: Further Supplementary Information

(1) Program authorities: For a list of all program authorities for the Coastal Ocean Program, see General Grant Administration Terms and Conditions of the Coastal Ocean Program published in the Federal Register (65 FR 62706, October 19, 2000) and at the COP home page. The specific authority cited for this announcement is 33 U.S.C. 1442.

(2) Catalog of Federal Domestic Assistance Number: 11.478 Coastal Ocean Program and 47.050 for the Directorate for Geosciences, National Science Foundation.

(3) Program description: For complete COP program descriptions, see General Grant Administration Terms and Conditions of the Coastal Ocean Program published in the Federal Register (65 FR 62706, October 19, 2000).

(4) Funding availability: Funding is contingent upon the availability of Federal appropriations. It is estimated that approximately $400,000 per fiscal year will be available for supporting studies proposed by submissions to this announcement. Priority for these funds will be given to proposals that promote balanced coverage of the science objectives stated under SUPPLEMENTARY INFORMATION, Structure of the Research Program.

If an application is selected for funding, NOAA has no obligation to provide any additional prospective funding in connection with that award in subsequent years. Renewal of an award to increase funding or extend the period of performance is based on satisfactory performance and is at the total discretion of the funding agency.

Publication of this document does not obligate the COP to any specific award or to any part of the entire amount of funds available. Recipients and subrecipients are subject to all Federal laws and agency policies, regulations, and procedures applicable to Federal financial assistance awards.

(5) Matching requirements: None.

(6) Type of funding instrument: Project Grants for non-Federal applicants; interagency transfer agreements or other appropriate mechanisms other than project grants or cooperative agreements for Federal applicants.

(7) Eligibility criteria: For complete eligibility criteria for the COP, see COP’s General Grant Administration Terms and Conditions annual document in the Federal Register (65 FR 62706, October 19, 2000) and the COP home page. Eligible applicants are institutions of higher education, not-for-profit institutions, international organizations, state, local and Indian tribal governments and Federal agencies. COP will accept proposals that include foreign researchers as collaborators with a researcher who is affiliated with a U.S. academic institution, Federal agency, or other non-profit organization.

Applications from non-Federal and Federal applicants will be competed against each other. Proposals selected for funding from non-Federal applicants will be funded through a project grant or cooperative agreement under the terms of this notice. Proposals selected for funding from NOAA employees shall be effected by an intra-agency fund transfer. Proposals selected for funding from a non-NOAA Federal agency will be funded through an inter-agency transfer. PLEASE NOTE: Before non-NOAA Federal applicants may be funded, they must demonstrate that they have legal authority to receive funds from another Federal agency in excess of their appropriation. Because this announcement is not proposing to procure goods or services from applicants, the Economy Act (31 USC 1535) is not an appropriate legal basis.

(8) Award period: Full proposals should cover a project period of up to 2 years, with a start date of August 1, 2001. Multi-year project period funding may be funded incrementally on an annual basis; but once awarded, multi-year projects will not compete for funding in subsequent years. Each award shall require a Statement of Work which represents substantial accomplishments that can be easily separated into annual increments if prospective funding is not made available, or is discontinued.

(9) Indirect costs: If indirect costs are proposed, the total dollar amount of the indirect costs proposed in an application must not exceed the indirect cost rate negotiated and approved by a cognizant Federal agency prior to the proposed effective date of the award.

(l0) Application forms: For complete information on application forms for the COP, see COP’s General Grant Administration Terms and Conditions document in the Federal Register (65 FR 62706, October 19, 2000); the COP home page; and the information given under Required Elements, paragraph (5) Budget.

(11) Project funding priorities: For description of project funding priorities, see COP’s General Grant Administration Terms and Conditions document in the Federal Register (65 FR 62706, October 19, 2000) and at the COP home page.

(12) Evaluation criteria: For complete information on evaluation criteria, see COP’s General Grant Administration Terms and Condition document in the Federal Register (65 FR 62706, October 19, 2000) and at the COP home page.

(13) Selection procedures: For complete information on selection procedures, see COP’s General Grant Administration Terms and Conditions Document in the Federal Register (65 FR 62706, October 19, 2000) and at the COP home page. All proposals received under this specific Document will be evaluated and ranked individually in accordance with the assigned weights of the above evaluation criteria by independent peer mail review.

(14)Other requirements: For a complete description of other requirements, see COP’s General Grant Administration Terms and Conditions document in the Federal Register (65 FR 62706, October 19, 2000) and at the COP home page.

(15) Pursuant to Executive Orders 12876, 12900 and 13021, the Department of Commerce, National Oceanic and Atmospheric Administration (DOC/NOAA) is strongly committed to broadening the participation of Historically Black Colleges and Universities, Hispanic Serving Institutions and Tribal Colleges and Universities in its educational and research programs. The DOC/NOAA vision, mission and goals are to achieve full participation by Minority Serving Institutions (MSI) in order to advance the development of human potential, to strengthen the nation’s capacity to provide high-quality education, and to increase opportunities for MSIs to participate in, and benefit from, Federal financial assistance programs. DOC/NOAA encourages all applicants to include meaningful participation of MSIs.

(16) Applicants are hereby notified that they are encouraged, to the greatest practicable extent, to purchase American-made equipment and products with funding provided under this program.

(17) Intergovernmental Review: Applications under this program are not subject to Executive Order 12372, “Intergovernmental Review of Federal Programs.”

(18) This notification involves collection-of-information requirements subject to the Paperwork Reduction Act (PRA). The use of Standard Forms 424, 424A, 424B, and SF-LLL has been approved by the Office of Management and Budget (OMB) under control numbers 0348-0043, 0348-0044, 0348-0040 and 0348-0046.

The following requirements have been approved by OMB under control number 0648-0384; a Summary Proposal Budget Form (30 minutes per response), a Project Summary Form (30 minutes per response), a standardized format for the annual Performance Report (5 hours per response), a standardized format for the Final Report (10 hours per response), and the submission of up to 20 copies of proposals (10 minutes per response). The response estimates include the time for reviewing instructions, searching existing data sources, gathering and maintaining the data needed, and completing and reviewing the collection of information. Send comments regarding these requirements and the burden estimate, or any other aspect of this collection of information, including suggestions for reducing this burden, to Leslie.McDonald@noaa.gov. Copies of these forms and formats can be found on the COP home page under Grants Support sections, Parts D and F.

Notwithstanding any other provision of law, no person is required to respond to, nor shall any person be subject to a penalty for failure to comply with a collection of information subject to the requirements of the Paperwork Reduction Act, unless that collection displays a currently valid OMB control number.

Dated: January 10, 2001.
John Oliver
Director, Management and Budget Office, National Ocean Service.

[FR Doc. 01-1381 Filed 1-16-01; 8:45 am]

BILLING CODE 3510-JS-S